ENVIRONMENTAL PROTECTION AGENCY

[EPA-HQ-OPP-2009-0317; FRL-8435-5]

Malathion Registration Review Docket; Reopening of Comment Period

AGENCY: Environmental Protection Agency (EPA).

ACTION: Notice; reopening of comment period.

SUMMARY: EPA issued a notice in the Federal Register of June 24, 2009, concerning the availability of multiple registration review dockets for public comment, including malathion. This document reopens the comment period for the malathion registration review docket, which closed on August 24, 2009, until October 5, 2009.

DATES: Comments, identified by docket identification (ID) number EPA-HQ-OPP-2009-0317, must be received on or before October 5, 2009.

ADDRESSES: Follow the detailed instructions as provided under ADDRESSES in the Federal Register document of June 24, 2009.

FOR FURTHER INFORMATION CONTACT: Eric Miederhoff, Special Review and Reregistration Division (7508P), Office of Pesticide Programs, Environmental Protection Agency, 1200 Pennsylvania Ave., NW., Washington, DC 20460-0001; telephone number: (703) 347-8028; e-mail address: miederhoff.eric@epa.gov.

SUPPLEMENTARY INFORMATION: This document reopens the public comment period established in the Federal Register of June 24, 2009 (74 FR 30077) (FRL-8422-4). In that document, the Agency announced the availability of multiple registration review dockets for public comment, including malathion. EPA is hereby reopening the comment period for the malathion registration review docket for 30 days.

To submit comments, or access the docket, please follow the detailed instructions as provided under ADDRESSES in the June 24, 2009 Federal Register document. If you have questions, consult the person listed under FOR FURTHER INFORMATION CONTACT.

List of Subjects

Environmental protection, Pesticides and pests.

Dated: August 28, 2009.
Peter Caulkins,
Acting Director, Special Review and Reregistration Division, Office of Pesticide Programs.

[FR Doc. E9-21394 Filed 9-3-09; 8:45 am]

BILLING CODE 6560-50-S